DEPARTMENT OF COMMERCE

National Oceanic and Atmospheric Administration

[I.D. 111606A]

General Advisory Committee to the U.S. Section to the Inter-American Tropical Tuna Commission; Meeting Announcement

AGENCY: National Marine Fisheries Service (NMFS), National Oceanic and Atmospheric Administration (NOAA), Commerce.

ACTION: Notice of public meeting.

SUMMARY: NMFS announces a meeting, via teleconference, of the General Advisory Committee to the U.S. Section to the Inter-American Tropical Tuna Commission (IATTC) in January 2007. Meeting topics are provided under the SUPPLEMENTARY INFORMATION section of this notice.

DATES: The meeting will be held on January 18, 2007, from 9 a.m. to 5 p.m. (or until business is concluded), Pacific time.

ADDRESSES: The meeting will be held via teleconference. Please notify Allison Routt prior to January 11, 2007, to receive dial in information and of your intent to participate in this teleconference.

FOR FURTHER INFORMATION CONTACT: Allison Routt at (562) 980-4019 or (562) 980-4030.

SUPPLEMENTARY INFORMATION: In accordance with the Tuna Conventions Act, as amended, the Department of State has appointed a General Advisory Committee to the United States Section to the IATTC. The U.S. Section consists of the four U.S. Commissioners to the IATTC and the representative of the Deputy Assistant Secretary of State for Oceans and Fisheries. The Advisory Committee supports the work of the U.S. Section in a solely advisory capacity with respect to U.S. participation in the work of the IATTC, with particular reference to the development of policies and negotiating positions pursued at meetings of the IATTC. NMFS, Southwest Region, administers the Advisory Committee in cooperation with the Department of State.

Meeting Topics

The General Advisory Committee will meet to receive and discuss information on: (1) 2006 and 2007 IATTC activities, (2) activities of the Commerce and State Departments and the Pacific Fishery Management Council and Western Pacific Fishery Management Council as they relate to the IATTC, including scientific developments, (3) upcoming meetings of the IATTC and its working groups, including issues such as: conservation and management measures for yellowfin, bigeye, and albacore tuna for 2007 and beyond, measures to be taken in cases of noncompliance with the IATTC's conservation and management measures, management of fishing capacity, financing the IATTC, and measures to address bycatch and other issues, (4) IATTC cooperation with other regional fishery management organizations, and (5) administrative matters pertaining to the General Advisory Committee.

Special Accommodations

The meeting is via teleconference. Requests for special accommodations, issues, and needs should be directed to Allison Routt at (562) 980-4019 or (562) 980-4030 by January 2, 2007.

Dated: November 20 2006.
James P. Burgess,
Acting Director, Office of Sustainable Fisheries, National Marine Fisheries Service.

[FR Doc. E6-20169 Filed 11-27-06; 8:45 am]

BILLING CODE 3510-22-S